DEPARTMENT OF ENERGY

Federal Energy Regulatory Commission

Combined Notice of Filings #2

Take notice that the Commission received the following electric rate filings:

Docket Numbers: ER17-211-001.

Applicants: Mid-Atlantic Interstate Transmission, LL, PJM Interconnection, L.L.C.

Description: Tariff Amendment: MAIT submits response to Deficiency Letter issued Dec. 28, 2016 in ER17-211-000 to be effective 12/31/9998.

Filed Date: 1/10/17.

Accession Number: 20170110-5158.

Comments Due: 5 p.m. ET 1/31/17.

Docket Numbers: ER17-217-001.

Applicants: Jersey Central Power & Light, PJM Interconnection, L.L.C.

Description: Tariff Amendment: JCPL submits response to Deficiency Letter issued Dec. 28, 2016 in ER17-217-000 to be effective 1/1/2017.

Filed Date: 1/10/17.

Accession Number: 20170110-5165.

Comments Due: 5 p.m. ET 1/31/17.

Docket Numbers: ER17-764-000.

Applicants: Stream Ohio Gas & Electric, LLC.

Description: Baseline eTariff Filing: Application for Market Based Rate to be effective 2/20/2017.

Filed Date: 1/10/17.

Accession Number: 20170110-5097.

Comments Due: 5 p.m. ET 1/31/17.

Docket Numbers: ER17-765-000.

Applicants: Stream Energy Illinois, LLC.

Description: Baseline eTariff Filing: Application for Market Based Rate to be effective 2/20/2017.

Filed Date: 1/10/17.

Accession Number: 20170110-5102.

Comments Due: 5 p.m. ET 1/31/17.

Docket Numbers: ER17-766-000.

Applicants: Stream Energy Indiana, LLC.

Description: Baseline eTariff Filing: Application for Market Based Rate to be effective 2/20/2017.

Filed Date: 1/10/17.

Accession Number: 20170110-5104.

Comments Due: 5 p.m. ET 1/31/17.

Docket Numbers: ER17-767-000.

Applicants: Stream Energy Delaware, LLC.

Description: Baseline eTariff Filing: Application for Market Based Rate to be effective 2/20/2017.

Filed Date: 1/10/17.

Accession Number: 20170110-5105.

Comments Due: 5 p.m. ET 1/31/17.

Docket Numbers: ER17-768-000.

Applicants: Stream Energy Connecticut, LLC.

Description: Baseline eTariff Filing: Application for Market Based Rate to be effective 2/20/2017.

Filed Date: 1/10/17.

Accession Number: 20170110-5108.

Comments Due: 5 p.m. ET 1/31/17.

Docket Numbers: ER17-769-000.

Applicants: Stream Energy Massachusetts, LLC.

Description: Baseline eTariff Filing: Application for Market Based Rate to be effective 2/20/2017.

Filed Date: 1/10/17.

Accession Number: 20170110-5111.

Comments Due: 5 p.m. ET 1/31/17.

Docket Numbers: ER17-770-000.

Applicants: PacifiCorp.

Description: § 205(d) Rate Filing: Calpine NITSA (fka Noble Americas) Rev 10 to be effective 1/1/2017.

Filed Date: 1/10/17.

Accession Number: 20170110-5137.

Comments Due: 5 p.m. ET 1/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2017.
Kimberly D. Bose,
Secretary.

[FR Doc. 2017-00926 Filed 1-17-17; 8:45 am]

BILLING CODE 6717-01-P